DEPARTMENT OF DEFENSE

Office of the Secretary

Defense Policy Board Advisory Group; Meeting

AGENCY: Office of the Secretary, DoD.

ACTION: Notice of advisory committee meeting.

SUMMARY: The Defense Policy Board will meet in closed session on September 19 and 20, 2001. the mission of the Defense Policy Board is to provide the Secretary of Defense and the Under Secretary of Policy with independent, informed advice and opinion concerning major matters of defense policy. At this meeting, the Board will hold classified discussions on national security matters.

In accordance with the Federal Advisory Committee Act, Public Law 92-463, as amended (5 U.S.C. App II (1982)), it has been determined that the committee meeting concerns matters sensitive to the interest of national security, listed in 5 U.S.C. 552B(c)(1)(1982). Accordingly this meeting will be closed to the public

DATES: September 19 and 20, 2001, 0800-1800.

ADDRESSES: The Pentagon, Washington, DC

FOR FURTHER INFORMATION CONTACT: Lauren Haber, OUSD (Policy), 703-697-0286

Dated: August 31, 2001.
L.M. Bynum,
Alternate Federal Register Liaison Officer, Department of Defense.

[FR Doc. 01-22573 Filed 9-7-01; 8:45 am]

BILLING CODE 5001-08-M